DEPARTMENT OF ENERGY

Federal Energy Regulatory Commission

[Docket No. CP00-75-002]

Questar Pipeline Company; Notice of Compliance Filing

April 26, 2000.

Take notice that on April 19, 2000, Questar Pipeline Company (Questar) tendered for filing and acceptance, to be effective March 10, 2000, Substitute Sixth Revised Sheet No. 2, Substitute Seventh Revised Sheet No. 10, and Substitute First Revised Sheet No. 330 to Original Volume No. 3 of its FERC Gas Tariff.

On March 20, 2000, Questar filed tariff sheets to be effective January 5, 2000. The Commission issued a letter order on April 11, 2000, requiring Questar to file certain revised tariff sheets, within 15 days of the order dated, to correct a typographical error and change the effective date of the tariff sheets to March 10, 2000. Questar's filing complies with the Commission's April 11, 2000, letter order.

Questar states that a copy of this filing has been served upon its customers, the Public Service Commission of Utah and the Public Service Commission of Wyoming.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceeding. Copies of this filing are on file with the Commission and are available for public inspection in the Public Reference Room. This filing may be viewed on the web at http://www.ferc.fed.us/online/rims.htm (call 202-208-2222 for assistance).

David P. Boergers,
Secretary.

[FR Doc. 00-10860 Filed 5-1-00; 8:45 am]

BILLING CODE 6717-01-M